DEPARTMENT OF THE INTERIOR

Bureau of Land Management

[BLM_NV_FRN_MO# 4500180403]

Notice of Intent To Prepare an Environmental Assessment and Amend the Resource Management Plan for the Proposed Dodge Flat Solar II Project in Washoe County, Nevada

AGENCY: Bureau of Land Management, Interior.

ACTION: Notice of intent.

SUMMARY: In compliance with the National Environmental Policy Act of 1969, as amended (NEPA), and the Federal Land Policy and Management Act of 1976, as amended (FLPMA), the Bureau of Land Management (BLM) Nevada State Office intends to prepare a Resource Management Plan (RMP) amendment with an associated Environmental Assessment (EA) for the proposed Dodge Flat Solar II Project and by this notice is announcing the beginning of the scoping period to solicit public comments and identify issues, and is providing the planning criteria for public review.

DATES: The BLM requests the public submit comments concerning the scope of the analysis, potential alternatives, and identification of relevant information and studies by November 4, 2024. To afford the BLM the opportunity to consider issues raised by commenters in the Draft RMP amendment and associated EA, please ensure your comments are received prior to the close of the 30-day scoping period or 15-days after the last public meeting, whichever is later.

ADDRESSES: You may submit comments on issues and planning criteria related to the Dodge Flat Solar II Project by any of the following methods:

• Website: https://eplanning.blm.gov/eplanning-ui/project/2027081/510.

• Email: BLM_NV_CCDO_Dodge_Flat_Solar@blm.gov.

• Mail: BLM, Carson City District Office, Attn: Dodge Flat Solar II Project, 5665 Morgan Mill Rd., Carson City, NV 89701.

Documents pertinent to this proposal may be examined online at https://eplanning.blm.gov/eplanning-ui/project/2027081/510 and at the Carson City District Office.

FOR FURTHER INFORMATION CONTACT: Jonathan Kalb, Realty Specialist, telephone (775) 885-6033; address 5665 Morgan Mill Rd., Carson City, NV 89701; email Jkalb@blm.gov. Contact Jonathan Kalb to have your name added to our mailing list. Individuals in the United States who are deaf, deafblind, hard of hearing, or have a speech disability may dial 711 (TTY, TDD, or TeleBraille) to access telecommunications relay services for contacting Jonathan Kalb. Individuals outside the United States should use the relay services offered within their country to make international calls to the point-of-contact in the United States.

SUPPLEMENTARY INFORMATION: This document provides notice that the BLM intends to prepare an RMP amendment with an associated EA for the proposed Dodge Flat Solar II Project and announces the beginning of the scoping process that seeks public input on issues and planning criteria. The RMP amendment is being considered to allow the BLM to evaluate modifying a portion of an energy corridor designated by BLM under section 368 of the Energy Policy Act of 2005 (Section 368 energy corridors) around the proposed Dodge Flat Solar II Project. This would require removal of approximately 608 acres of the section 368 energy corridor, as currently identified, and designating approximately 92 acres of new section 368 energy corridor to the southeast of the proposed Dodge Flat Solar II Project. Section 368 energy corridors are managed as the preferred locations for development of energy transportation projects on lands managed by the BLM. Each corridor has a defined centerline, width, and compatible uses (underground-only, electric-only, or multi-modal). The rerouting of the section 368 energy corridor would require amending the Carson City Field Office Consolidated RMP, as amended by the 2009 West Wide Energy Corridor Programmatic Environmental Impact Statement Record of Decision. The planning area is located in Washoe County, NV, and encompasses approximately 990 acres of public land.

Purpose and Need

The BLM's purpose for this Federal action is to respond to the ROW application submitted under Title V of FLPMA and to amend the section 368 energy corridor (15-17) direction in the Carson City Field Office Consolidated RMP in compliance with the BLM ROW regulations (43 CFR part 2800) and other applicable Federal and State laws and policies. In accordance with FLPMA, there is a need to consider the long-term needs of future generations for renewable and non-renewable resources in the context of the multiple resource objectives in the Carson City Field Office Consolidated RMP planning area.

A Notice of Intent for an amendment to the Carson City Field Office Consolidated RMP for use of exclusion areas within the proposed Dodge Flat Solar II Project was published on January 19, 2024. Since then, it was determined that an amendment to the Carson City Field Office Consolidated RMP is needed for the Section 368 energy corridor rerouting as well.

Preliminary Alternatives

Under the No Action alternative, the BLM would not approve the proposed Dodge Flat Solar II Project on public lands and would not amend the corridor alignment in the Carson City Field Office Consolidated RMP. Under the proposed action alternative, the BLM would change the corridor alignment in the Carson City Field Office Consolidated RMP to allow the Dodge Flat Solar II Project to be developed as currently proposed. The BLM welcomes comments and suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and stakeholders. The BLM has identified several preliminary issues for this planning effort's analysis. The planning criteria are available for public review and comment at the ePlanning website (see ADDRESSES).

Public Scoping Process

This notice of intent initiates the scoping period and public review of the planning criteria, which guide the development and analysis of the RMP amendment and associated EA. The BLM will hold one virtual scoping meeting. The specific date and time of the scoping meeting will be announced at least 15 days in advance through the project ePlanning web page (See ADDRESSES).

Interdisciplinary Team

The BLM will use an interdisciplinary approach to develop the plan amendment in order to consider the variety of resource issues and concerns identified. Specialists with expertise in the following disciplines will be involved in this planning effort: air quality, archaeology, botany, climate change (greenhouse gases), environmental justice, fire and fuels, geology/mineral resources and soils, hazardous materials, hydrology, groundwater, invasive/non-native species, jurisdictional delineations, lands and realty, paleontology, public health and safety, rangelands, transportation, socioeconomics, soils, visual resources, and wildlife.

Additional Information

The BLM will identify, analyze, and consider mitigation to address the reasonably foreseeable impacts to resources from the proposed plan amendment and all analyzed reasonable alternatives and, in accordance with 40 CFR 1502.14(e), include appropriate mitigation measures not already included in the proposed plan amendment or alternatives. Mitigation may include avoidance, minimization, rectification, reduction or elimination over time, and compensation; and may be considered at multiple scales, including the landscape scale.

The BLM will utilize and coordinate the NEPA and land use planning processes for this planning effort to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed plan amendment will assist the BLM in identifying and evaluating impacts to such resources.

The BLM will consult with Indian Tribes on a government-to-government basis in accordance with Executive Order 13175, BLM MS 1780, and other Departmental policies. Tribal concerns, including impacts on Indian trust assets and potential impacts to cultural resources, will be given due consideration. Federal, State, and local agencies, along with Indian Tribes and other stakeholders that may be interested in or affected by the proposed Dodge Flat Solar II Project that the BLM is evaluating, are invited to participate in the scoping process and, if eligible, may request or be requested by the BLM to participate in the development of the EA as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.7, 43 CFR 1610.2, and 43 CFR 2800)

Jon K. Raby,
State Director.

[FR Doc. 2024-22982 Filed 10-3-24; 8:45 am]

BILLING CODE 4331-21-P